DEPARTMENT OF HEALTH AND HUMAN SERVICES

Centers for Disease Control and Prevention

Advisory Committee to the Director (ACD), Centers for Disease Control and Prevention (CDC)

Correction: This notice was published in the Federal Register on August 30, 2016, Volume 81, Number 168, Page 59626. The meeting location should read as follows:

Place: CDC, Building 24, Conference Room 01103A/B, 1600 Clifton Road NE., Atlanta, Georgia 30329.

Contact Person for More Information: Carmen Villar, MSW, Designated Federal Officer, ACD, CDC, 1600 Clifton Road NE., M/S D-14, Atlanta, Georgia 30329. Telephone (404) 498-6482, Email: ACDirector@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2016-25453 Filed 10-20-16; 8:45 am]

BILLING CODE 4163-18-P